ENVIRONMENTAL PROTECTION AGENCY

40 CFR Part 55

[EPA-R03-OAR-2009-0238; FRL-8936-4]

Outer Continental Shelf Air Regulations Consistency Update for Delaware

AGENCY: Environmental Protection Agency (EPA).

ACTION: Final rule.

SUMMARY: EPA is approving the updates of the Outer Continental Shelf (OCS) Air Regulations for Delaware. Requirements applying to OCS sources located within 25 miles of a State's seaward boundary must be updated periodically to maintain continuity and ensure consistency with the regulations of the corresponding onshore area (COA), as mandated by section 328(a)(1) of the Clean Air Act (CAA). The intended effect of approving the OCS regulations for Delaware is to regulate air emissions from OCS sources in accordance with the requirements of the COA.

DATES: Effective Date: This rule is effective on September 11, 2009.

The incorporation by reference of certain publications listed in this rule is approved by the Director of the Federal Register as of September 11, 2009.

ADDRESSES: EPA has established a docket for this action under Docket ID Number EPA-R03-OAR-2009-0238. All documents in the docket are listed in the http:www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http:www.regulations.gov or in hard copy for public inspection during normal business hours at the Air Protection Division, U.S. Environmental Protection Agency, Region III, 1650 Arch Street, Philadelphia, Pennsylvania 19103.

FOR FURTHER INFORMATION CONTACT: Amy Caprio, (215) 814-2156 or by e-mail at caprio.amy@epa.gov.

SUPPLEMENTARY INFORMATION: Throughout this document whenever “we,” “us,” or “our” is used, we mean EPA.

Table of Contents

I. Background and Purpose

II. Public Comment

III. EPA Action

IV. Statutory and Executive Order Reviews

I. Background and Purpose

Section 328(a) of the Clean Air Act (CAA) requires that EPA establish requirements to control air pollution from OCS sources located within 25 miles of a State's seaward boundary that are the same as onshore requirements. To comply with this statutory mandate, EPA must incorporate applicable rules of the corresponding onshore area (COA) into 40 CFR part 55.

On April 29, 2008 (74 FR 19472), EPA proposed to incorporate various Delaware air quality management requirements into 40 CFR part 55. These requirements are being promulgated to ensure that the applicable OCS rules correspond with the rules for the COA. EPA has evaluated the proposed requirements to ensure that they are rationally related to the attainment or maintenance of federal or state ambient air quality standards or Part C of title I of the CAA, that they are not designed expressly to prevent exploration and development of the OCS and that they are applicable to OCS sources. 40 CFR 55.1. EPA has also evaluated the rules to ensure that they are not arbitrary or capricious. 40 CFR 55.12(e). In addition, EPA has excluded administrative or procedural rules.

Section 328(a) of the CAA and 40 CFR part 55 limit EPA's flexibility in deciding which requirements will be incorporated into part 55 and prevent EPA from making substantive changes to the requirements it incorporates. As a result, EPA may be incorporating rules into part 55 that do not conform to all of EPA's state implementation plan (SIP) guidance or certain requirements of the CAA. Consistency updates may result in the inclusion of state or local rules or regulations into part 55, even though the same rules may ultimately be disapproved for inclusion as part of the SIP. Inclusion in the part 55 rule does not imply that a state or local rule meets the requirements of the CAA for SIP approval, nor does it imply that the state or local rule will be approved by EPA for inclusion in the SIP.

II. Public Comment

EPA did not receive comments on the proposed rulemaking published on April 29, 2009 (74 FR 19472).

III. EPA Action

In this document, EPA takes final action to incorporate the proposed changes into 40 CFR part 55. No changes were made to the proposed action. EPA is approving the proposed action under section 328(a)(1) of the CAA, 42 U.S.C. 7627(a)(1). Section 328(a)(1) of the CAA requires that EPA establish requirements to control air pollution from OCS sources located within 25 miles of a State's seaward boundary that are the same as would be applicable if the source were located in the COA. To comply with this statutory mandate, EPA must incorporate applicable COA rules into 40 CFR part 55 as they exist onshore.

IV. Statutory and Executive Order Reviews

Under the section 328(a)(1) of the CAA, 42 U.S.C. 7627(a)(1), the Administrator is required to establish requirements to control air pollution from OCS sources located within 25 miles of States' seaward boundary that are the same as onshore air control requirements. To comply with this statutory mandate, EPA must incorporate applicable COA rules into 40 CFR part 55 as they exist onshore. 42 U.S.C. 7627(a)(1); 40 CFR 55.12. Thus, in promulgating OCS consistency updates, EPA's role is to maintain consistency between OCS regulations and the regulations of the COA, provided that they meet the criteria of the Clean Air Act. Accordingly, this action updates the existing OCS requirements to make them consistent with COA requirements, without the exercise of any policy discretion by EPA. For that reason, this action:

• Is not a “significant regulatory action” subject to review by the Office of Management and Budget under Executive Order 12866 (58 FR 51735, October 4, 1993);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it does not have a substantial direct effect on one or more Indian tribes, on the relationship between the Federal Government and Indian tribes, or on the distribution of power and responsibilities between the Federal Government and Indian tribes, nor does it impose substantial direct compliance costs on tribal governments, nor preempt tribal law.

Under the provisions of the Paperwork Reduction Act, 44 U.S.C. 3501 et seq., OMB has approved the information collection requirements contained in 40 CFR part 55 and, by extension, this update to the rules, and has assigned OMB control number 2060-0249. Notice of OMB's approval of EPA Information Collection Request (ICR) No. 1601.07 was published in the Federal Register on February 17, 2009 (74 FR 7432). The approval expires January 31, 2012. As EPA previously indicated (73 FR 66037 (November 6, 2008)), the annual public reporting and recordkeeping burden for collection of information under 40 CFR part 55 is estimated to average 112 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR are listed in 40 CFR part 9 and are identified on the form and/or instrument, if applicable. In addition, the table in 40 CFR part 9 of currently approved OMB control numbers for various regulations lists the regulatory citations for the information requirements contained in 40 CFR part 55.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 13, 2009. Filing a petition for reconsideration by the Administrator of this final rule to incorporate updates to the OCS requirements for Delaware does not affect the finality of this action for the purposes of judicial review nor does it extend the time within which a petition for judicial review may be filed, and shall not postpone the effectiveness of such rule or action. This action may not be challenged later in proceedings to enforce its requirements. (See section 307(b)(2).)

List of Subjects in 40 CFR Part 55

Environmental protection, Administrative practice and procedure, Air pollution control, Continental Shelf, Incorporation by reference, Intergovernmental relations, Nitrogen dioxide, Ozone, Particulate matter, Reporting and recordkeeping requirements, Sulfur oxides.

Dated: July 16, 2009.
William C. Early,
Acting Regional Administrator, Region III.

Title 40, chapter I of the Code of Federal Regulations, is proposed to be amended as follows:

PART 55—[AMENDED]

1. The authority citation for part 55 continues to read as follows:

Authority: Section 328 of the Act (42 U.S.C. 7401, et seq.) as amended by Public Law 101-549.

2. Section 55.14 is amended as follows:

a. By adding paragraph (d)(5).

b. By revising paragraph (e) introductory text.

c. By adding paragraph (e)(5).

§ 55.14 Requirements that apply to OCS sources located within 25 miles of States' seaward boundaries, by State.

* * * * *

(d) * * *

(5) Delaware.

(i) 40 CFR part 52, subpart I.

(ii) [Reserved].

* * * * *

(e) State and local requirements. State and local requirements promulgated by EPA as applicable to OCS sources located within 25 miles of States' seaward boundaries have been compiled into separate documents organized by State and local areas of jurisdiction. These documents, set forth below, are incorporated by reference. This incorporation by reference was approved by the Director of the Federal Register Office in accordance with 5 U.S.C. 552(a) and 1 CFR part 51. Copies may be inspected at the National Archives and Records Administration (NARA). For information on the availability of this material at NARA, call 202-741-6030 or go to: http://www.archives.gov/federal_register/code _of_federal_regulations/ibr_locations.html. Copies of rules pertaining to particular States or local areas may be inspected or obtained from the EPA Air Docket (A-91-76), U.S. EPA, room M-1500, 401 M St., SW., Washington, DC 20460, (202) 566-1742 or the appropriate EPA regional offices: U.S. EPA, Region I (Massachusetts) One Congress Street, Boston, MA 02114-2023, (617) 918-1111; U.S. EPA, Region III (Delaware) 1650 Arch Street, Philadelphia, PA 19103, (215) 814-5000; U.S. EPA, Region 4 (Florida and North Carolina), 61 Forsyth Street, Atlanta, GA 30303, (404) 562-9900; U.S. EPA, Region 9 (California), 75 Hawthorne Street, San Fransisco, CA 94105, (415) 947-8000; and U.S. EPA Region 10 (Alaska), 1200 Sixth Avenue, Seattle, WA 98101, (206) 553-1200. For an informational listing of the State and local requirements incorporated into this part, which are applicable to sources of air pollution located on the OCS, see appendix A to this part.

* * * * *

(5) Delaware.

(i) State requirements.

(A) State of Delaware Requirements Applicable to OCS Sources, December 19, 2008.

(B) [Reserved].

(ii) Local requirements.

(A) [Reserved].

* * * * *

3. Appendix A to part 55 is amended by adding an entry for Delaware in alphabetical order to read as follows:

Appendix A to Part 55—Listing of State and Local Requirements Incorporated by Reference Into Part 55, by State

* * * * *

Delaware

(a) State requirements.

(1) The following State of Delaware requirements are applicable to OCS Sources, December 19, 2008, State of Delaware—Department of Natural Resources and Environmental Control. The following sections of 7 DE Admin. Code 1100—Air Quality Management Section:

7 DE Admin. Code 1101: Definitions and Administrative Principles

Section 1.0: General Provisions (Effective 02/01/1981)

Section 2.0: Definitions (Effective 09/11/1999)

Section 3.0: Administrative Principles (02/01/1981)

Section 4.0: Abbreviations (Effective 02/01/1981)

7 DE Admin. Code 1102: Permits

Section 1.0: General Provisions (Effective 06/11/2006)

Section 2.0: Applicability (Effective 06/11/2006)

Section 3.0: Application/Registration Prepared by Interested Party (Effective 06/01/1997)

Section 4.0: Cancellation of Construction Permits (Effective 06/01/1997)

Section 5.0: Action on Applications (Effective 06/01/1997)

Section 6.0: Denial, Suspension or Revocation of Operating Permits (Effective 06/11/2006)

Section 7.0: Transfer of Permit/Registration Prohibited (Effective 06/01/1997)

Section 8.0: Availability of Permit/Registration (Effective 06/01/1997)

Section 9.0: Registration Submittal (Effective 06/01/1997)

Section 10.0: Source Category Permit Application (Effective 06/01/1997)

Section 11.0: Permit Application (Effective 06/11/2006)

Section 12.0: Public Participation (Effective 06/11/2006)

Section 13.0: Department Records (Effective 06/01/1997)

Section 1102: Appendix A (Effective 06/11/2006)

7 DE Admin. Code 1103: Ambient Air Quality Standards

Section 1.0: General Provisions (Effective 09/11/1999)

Section 2.0: General Restrictions (Effective 02/01/1981)

Section 3.0: Suspended Particulates (Effective 02/01/1981)

Section 4.0: Sulfur Dioxide (Effective 02/01/1981)

Section 5.0: Carbon Monoxide (Effective 02/01/1981)

Section 6.0: Ozone (Effective 09/11/1999)

Section 7.0: Hydrocarbons (Effective 02/01/1981)

Section 8.0: Nitrogen Dioxide (Effective 02/01/1981)

Section 9.0: Hydrogen Sulfide (Effective 02/01/1981)

Section 10.0: Lead (Effective 02/01/1981)

Section 11.0: PM10 and PM2.5 Particulates (Effective 2/11/2003)

7 DE Admin. Code 1104: Particulate Emissions From Fuel Burning Equipment

Section 1.0: General Provisions (Effective 02/01/1981)

Section 2.0: Emission Limits (Effective 02/01/1981)

7 DE Admin. Code 1105: Particulate Emissions From Industrial Process Operations

Section 1.0: General Provisions (Effective 02/01/1981)

Section 2.0: General Restrictions (Effective 02/01/1981)

Section 3.0: Restrictions on Hot Mix Asphalt Batching Operations (Effective 02/01/1981)

Section 4.0: Restrictions on Secondary Metal Operations (Effective 02/01/1981)

Section 5.0: Restrictions on Petroleum Refining Operations (Effective 02/01/1981)

Section 6.0: Restrictions on Prill Tower Operations (Effective 02/01/1981)

Section 7.0: Control of Potentially Hazardous Particulate Matter (Effective 02/01/1981)

7 DE Admin. Code 1106: Particulate Emissions From Construction and Materials Handling

Section 1.0: General Provisions (Effective 02/01/1981)

Section 2.0: Demolition (Effective 02/01/1981)

Section 3.0: Grading, Land Clearing, Excavation and Use of Non-Paved Roads (Effective 02/01/1981)

Section 4.0: Material Movement (Effective 02/01/1981)

Section 5.0: Sandblasting (Effective 02/01/1981)

Section 6.0: Material Storage (Effective 02/01/1981)

7 DE Admin. Code 1107: Emissions From Incineration of Noninfectious Waste

Section 1.0: General Provisions (Effective 10/13/1989)

Section 2.0: Restrictions (Effective 10/13/1989)

7 DE Admin. Code 1108: Sulfur Dioxide Emissions From Fuel Burning Equipment

Section 1.0: General Provisions (Effective 12/08/1983)

Section 2.0: Limit on Sulfur Content of Fuel (Effective 05/09/1985)

Section 3.0: Emission Control in Lieu of Sulfur Content Limits of 2.0 of This Regulation (Effective 05/09/1985)

7 DE Admin. Code 1109: Emissions of Sulfur Compounds From Industrial Operations

Section 1.0: General Provisions (Effective 05/09/1985)

Section 2.0: Restrictions on Sulfuric Acid Manufacturing Operations (Effective 02/01/1981)

Section 3.0: Restriction on Sulfuric Recovery Operations (Effective 02/01/1981)

Section 4.0: Stack Height Requirements (Effective 02/01/1981)

7 DE Admin. Code 1110: Emissions of Sulfur Compounds From Industrial Operations

Section 1.0: Requirements for Existing Sources of Sulfur Dioxide (Effective 01/18/1981)

Section 2.0: Requirements for New Sources of Sulfur Dioxide (Effective 02/01/1981)

7 DE Admin. Code 1111: Carbon Monoxide Emissions From Industrial Process Operations, New Castle County

Section 1.0: General Provisions (Effective 02/01/1981)

Section 2.0: Restrictions on Petroleum Refining Operations (Effective 02/01/1981)

7 DE Admin. Code 1112: Control of Nitrogen Oxide Emissions

Section 1.0: Applicability (Effective 11/24/1993)

Section 2.0: Definitions (Effective 11/24/1993)

Section 3.0: Standards (Effective 11/24/1993)

Section 4.0: Exemptions (Effective 11/24/1993)

Section 5.0: Alternative and Equivalent RACT Determinations (11/24/1993)

Section 6.0: RACT Proposals (11/24/1993)

Section 7.0: Compliance Certification, Recordkeeping, and Reporting Requirements (Effective 11/24/1993)

7 DE Admin. Code 1113: Open Burning

Section 1.0: Purpose (Effective 04/11/2007)

Section 2.0: Applicability (Effective 04/11/2007)

Section 3.0: Definitions (Effective 04/11/2007)

Section 4.0: Prohibitions and Related Provisions (Effective 04/11/2007)

Section 5.0: Season and Time Restrictions (Effective 04/11/2007)

Section 6.0: Allowable Open Burning (Effective 04/11/2007)

Section 7.0: Exemptions (Effective 04/11/2007)

7 DE Admin. Code 1114: Visible Emissions

Section 1.0: General Provisions (Effective 07/17/1984)

Section 2.0: Requirements (Effective 07/17/1984)

Section 3.0: Alternate Opacity Requirements (Effective 07/17/1984)

Section 4.0: Compliance With Opacity Standards (Effective 07/17/1984)

7 DE Admin. Code 1115: Air Pollution Alert and Emergency Plan

Section 1.0: General Provisions (Effective 07/17/1984)

Section 2.0: Stages and Criteria (Effective 03/29/1988)

Section 3.0: Required Actions (Effective 02/01/1981)

Section 4.0: Standby Plans (Effective 02/01/1981)

7 DE Admin. Code 1116: Sources Having an Interstate Air Pollution Potential

Section 1.0: General Provisions (Effective 02/01/1981)

Section 2.0: Limitations (Effective 02/01/1981)

Section 3.0: Requirements (Effective 02/01/1981)

7 DE Admin. Code 1117: Source Monitoring, Recordkeeping and Reporting

Section 1.0: Definitions and Administrative Principals (Effective 01/11/1993)

Section 2.0: Sampling and Monitoring (Effective 07/17/1984)

Section 3.0: Minimum Emissions Monitoring Requirements For Existing Sources (Effective 07/17/1984)

Section 4.0: Performance Specifications (Effective 07/17/1984)

Section 5.0: Minimum Data Requirements (Effective 07/17/1984)

Section 6.0: Data Reduction (Effective 07/17/1984)

Section 7.0: Emission Statement (Effective 01/11/1993)

7 DE Admin. Code 1120: New Source Performance Standards

Section 1.0: General Provisions (Effective 12/07/1988)

Section 2.0: Standards of Performance for Fuel Burning Equipment (Effective 04/18/1983)

Section 3.0: Standards of Performance for Nitric Acid Plants (Effective 04/18/1983)

Section 5.0: Standards of Performance for Asphalt Concrete Plants (Effective 04/18/1983)

Section 6.0: Standards of Performance for Incinerators (Effective 04/18/1983)

Section 7.0: Standards of Performance for Sewage Treatment Plants (Effective 04/18/1983)

Section 8.0: Standards of Performance for Sulfuric Acid Plants (Effective 04/18/1983)

Section 9.0: Standards of Performance for Electric Utility Steam Generating Units for Which Construction is Commenced After September 18, 1978 (Effective 04/18/1983)

Section 10.0: Standards of Performance for Stationary Gas Turbines (Effective 11/27/1985)

Section 11.0: Standards of Performance for Petroleum Refineries (Effective 11/27/1985)

Section 12.0: Standards of Performance for Steel Plants: Electric Arc Furnaces (Effective 11/27/1985)

Section 20.0: Standards of Performance for Bulk Gasoline Terminals (Effective 11/27/1985)

Section 22.0: Standards of Performance for Equipment Leaks at Petroleum Refineries (Effective 11/27/1985)

Section 27.0: Standards of Performance for Volatile Organic Liquid Storage Vessels (Including Petroleum Liquid Storage Vessels) for Which Construction, Reconstruction, or Modification Commenced after July 23, 1984 (Effective 12/07/1988)

Section 29.0: Standards of Performance for Hospital/Medical/Infectious Waste Incinerators (Effective 09/11/1998)

7 DE Admin. Code 1122: Restriction on Quality of Fuel in Fuel Burning Equipment

Section 1.0: Prohibition of Waste Oil (Effective 11/27/1985)

7 DE Admin. Code 1124: Control of Volatile Organic Compounds

Section 1.0: General Provisions (Effective 01/11/1993)

Section 2.0: Definitions (Effective 01/11/2002)

Section 3.0: Applicability (Effective 01/11/1993)

Section 4.0: Compliance, Certification, Recordkeeping, and Reporting Requirements for Coating Sources (Effective 11/29/1994)

Section 5.0: Compliance, Certification, Recordkeeping, and Reporting Requirements for Non-Coating Sources (Effective 01/11/1993)

Section 6.0: General Recordkeeping (Effective 01/11/1993)

Section 7.0: Circumvention (Effective 01/11/1993)

Section 8.0: Handling, Storage, and Disposal of Volatile Organic Compounds (VOCs) (Effective 11/29/1994)

Section 9.0: Compliance, Permits, Enforceability (Effective 01/11/1993)

Section 10.0: Aerospace Coatings (Effective 08/11/2002)

Section 11.0: Mobile Equipment Repair and Refinishing (Effective 11/11/2001)

Section 12.0: Surface Coating of Plastic Parts (Effective 11/29/1994)

Section 13.0: Automobile and Light-Duty Truck Coating Operations (Effective 01/11/1993)

Section 14.0: Can Coating (Effective 01/11/1993)

Section 15.0: Coil Coating (Effective 01/11/1993)

Section 16.0: Paper Coating (Effective 01/11/1993)

Section 17.0: Fabric Coating (Effective 01/11/1993)

Section 18.0: Vinyl Coating (Effective 01/11/1993)

Section 19.0: Coating of Metal Furniture (Effective 01/11/1993)

Section 20.0: Coating of Large Appliances (Effective 01/11/1993)

Section 21.0: Coating of Magnet Wire (Effective 01/11/1993)

Section 22.0: Coating of Miscellaneous Parts (Effective 01/11/1993)

Section 23.0: Coating of Flat Wood Paneling (Effective 01/11/1993)

Section 24.0: Bulk Gasoline Plants (Effective 01/11/1993)

Section 25.0: Bulk Gasoline Terminals (Effective 11/29/1994)

Section 26.0: Gasoline Dispensing Facility Stage I Vapor Recovery (Effective 01/11/2002)

Section 27.0: Gasoline Tank Trucks (Effective 01/11/1993)

Section 28.0: Petroleum Refinery Sources (Effective 01/11/1993)

Section 29.0: Leaks from Petroleum Refinery Equipment (Effective 11/29/1994)

Section 30.0: Petroleum Liquid Storage in External Floating Roof Tanks (Effective 11/29/1994)

Section 31.0: Petroleum Liquid Storage in Fixed Roof Tanks (Effective 11/29/1994)

Section 32.0: Leaks from Natural Gas/Gasoline Processing Equipment (Effective 11/29/1994)

Section 33.0: Solvent Cleaning and Drying (Effective 11/11/2001)

Section 34.0: Cutback and Emulsified Asphalt (Effective 01/11/1993)

Section 35.0: Manufacture of Synthesized Pharmaceutical Products (Effective 11/29/1994)

Section 36.0: Stage II Vapor Recovery (Effective 01/11/2002)

Section 37.0: Graphic Arts Systems (Effective 11/29/1994)

Section 38.0: Petroleum Solvent Dry Cleaners (Effective 01/11/1993)

Section 40.0: Leaks from Synthetic Organic Chemical, Polymer, and Resin Manufacturing Equipment (Effective 01/11/1993)

Section 41.0: Manufacture of High-Density Polyethylene, Polypropylene, and Polystyrene Resins (Effective 01/11/1993)

Section 42.0: Air Oxidation Processes in the Synthetic Organic Chemical Manufacturing Industry (Effective 01/11/1993)

Section 43.0: Bulk Gasoline Marine Tank Vessel Loading Facilities (Effective 08/08/1994)

Section 44.0: Batch Processing Operations (Effective 11/29/1994)

Section 45.0: Industrial Cleaning Solvents (Effective 11/29/1994)

Section 46.0: Crude Oil Lightering Operations (Effective 05/11/2007)

Section 47.0: Offset Lithographic Printing (Effective 11/29/1994)

Section 48.0: Reactor Processes and Distillation Operations in the Synthetic Organic Chemical Manufacturing Industry (Effective 11/29/1994)

Section 49.0: Control of Volatile Organic Compound Emissions from Volatile Organic Liquid Storage Vessels (Effective 11/29/1994)

Section 50.0: Other Facilities that Emit Volatile Organic Compounds (VOCs) (Effective 11/29/1994)

7 DE Admin. Code 1124: Control of Organic Compound Emissions

Appendix A: General Provisions: Test Methods and Compliance Procedures (Effective 11/29/1994)

Appendix B: Determining the Volatile Organic Compound (VOC) Content of Coatings and Inks (Effective 11/29/1994)

Appendix C: Alternative Compliance Methods for Surface Coating (Effective 11/29/1994)

Appendix D: Emission Capture and Destruction or Removal Efficiency and Monitoring Requirements (Effective 11/29/1994)

Method 30: Criteria for and Verification of a Permanent or Temporary Total Enclosure (Effective 11/29/1994)

Method 30A: Volatile Organic Compounds Content in Liquid Input Stream (Effective 11/29/1994)

Method 30B: Volatile Organic Compounds Emissions in Captured Stream (Effective 11/29/1994)

Method 30C: Volatile Organic Compounds Emissions in Captured Stream (Dilution Technique) (Effective 11/29/1994)

Method 30D: Volatile Organic Compounds Emissions in Fugitive Stream from Temporary Total Enclosure (Effective 11/29/1994)

Method 30E: Volatile Organic Compounds Emissions in Fugitive Stream from Building Enclosure (Effective 11/29/1994)

Appendix E: Determining the Destruction or Removal Efficiency of a Control Device (Effective 11/29/1994)

Appendix F: Leak Detection Methods for Volatile Organic Compounds (VOCs) (Effective 11/29/1994)

Appendix G: Performance Specifications for Continuous Emissions Monitoring of Total Hydrocarbons (Effective 11/29/1994)

Appendix H: Quality Control Procedures for Continuous Emission Monitoring Systems (CEMS) (Effective 11/29/1994)

Appendix I: Method to Determine Length of Rolling Period for Liquid/Liquid Material Balance (Effective 11/29/1994)

Appendix K: Emissions Estimation Methodologies (Effective 11/29/1994)

Appendix L: Method to Determine Total Organic Carbon for Offset Lithographic Solutions (Effective 11/29/1994)

Appendix M: Test Method for Determining the Performance of Alternative Cleaning Fluids (Effective 11/29/1994)

7 DE Admin. Code 1125: Requirements for Preconstruction Review

Section 1.0: General Provisions (Effective 08/11/2005)

Section 2.0: Emission Offset Provisions (EOP) (Effective 08/11/2005)

Section 3.0: Prevention of Significant Deterioration of Air Quality (Effective 08/11/2005)

Section 4.0: Minor New Source Review (MNSR) (Effective 08/11/2005)

7 DE Admin. Code 1127: Stack Heights

Section 1.0: General Provisions (Effective 07/06/1982)

Section 2.0: Definitions Specific to this Regulation (Effective 12/07/1988)

Section 3.0: Requirements for Existing and New Sources (Effective 02/18/1987)

Section 4.0: Public Notification (Effective 02/18/1987)

7 DE Admin. Code 1129: Emissions From Incineration of Infectious Waste

Section 1.0: General Provisions (10/13/1989)

Section 2.0: Exemptions (Effective 10/13/1989)

Section 3.0: Permit Requirements (Effective 10/13/1989)

Section 4.0: Methods of Treatment and Disposal (Effective 10/13/1989)

Section 5.0: Recordkeeping and Reporting Requirements (Effective 10/13/1989)

Section 6.0: Evidence of Effectiveness of Treatment (Effective 10/13/1989)

Section 7.0: Incineration (Effective 10/13/1989)

7 DE Admin. Code 1130: Title V State Operating Permit Program

Section 1.0: Program Overview (Effective 11/15/1993)

Section 2.0: Definitions (Effective 11/15/1993)

Section 3.0: Applicability (Effective 11/15/1993)

Section 5.0: Permit Applications (Effective 11/15/1993)

Section 6.0: Permit Contents (Effective 12/11/2000)

Section 7.0: Permit Issuance, Renewal, Reopening, And Revisions (Effective 12/11/2000)

Section 8.0: Permit Review by EPA and Affected States (Effective 11/15/1993)

Section 9.0: Permit Fees (Effective 11/15/1993)

Appendix A: Insignificant Activities (Effective 11/15/1993)

7 DE Admin. Code 1132: Transportation Conformity

Section 1.0: Purpose (Effective 11/11/2007)

Section 2.0: Definitions (Effective 11/11/2007)

Section 3.0: Consultation (Effective 11/11/2007)

Section 4.0: Written Commitments for Control and Mitigation Measures (Effective 11/11/2007)

7 DE Admin Code 1134: Emission Banking and Trading Program

Section 1.0: Program Overview (Effective 10/06/1997)

Section 2.0: Definitions (Effective 10/06/1997)

Section 3.0: Applicability (Effective 10/06/1997)

Section 4.0: Generating an Emission Reduction (Effective 10/06/1997)

Section 5.0: Application for Certification of an Emission Reduction as an ERC (Effective 10/06/1997)

Section 6.0: Source Baseline (Effective 10/06/1997)

Section 7.0: Post-Reduction Emission rate (Effective 10/06/1997)

Section 8.0: Certification of an Emission Reduction (Effective 10/06/1997)

Section 9.0: Trading and Use of ERCs (Effective 10/06/1997)

Section 10.0: Record Keeping Requirements (Effective 10/06/1997)

Section 11.0: ERC Banking System (Effective 10/06/1997)

Section 12.0: Fees (Effective 10/06/1997)

Section 13.0: Enforcement (Effective 10/06/1997)

Section 14.0: Program Evaluation and Individual Audits (Effective 10/06/1997)

7 DE Admin. Code 1135: Conformity of General Federal Actions to the State Implementation Plans

Section 1.0: Purpose (Effective 08/14/1996)

Section 2.0: Definitions (Effective 08/14/1996)

Section 3.0: Applicability (Effective 08/14/1996)

Section 4.0: Conformity Analysis (Effective 08/14/1996)

Section 5.0: Reporting Requirements (Effective 08/14/1996)

Section 6.0: Public Participation and Consultation (Effective 08/14/1996)

Section 7.0: Frequency of Conformity Determinations (Effective 08/14/1996)

Section 8.0: Criteria for Determining Conformity of General Federal Actions (Effective 08/14/1996)

Section 9.0: Procedures for Conformity Determinations of General Federal Actions (Effective 08/14/1996)

Section 10.0: Mitigation of Air Quality Impacts (Effective 08/14/1996)

Section 11.0: Savings Provisions (Effective 08/14/1996)

7 DE Admin. Code 1139: Nitrogen Oxides (NOX) Budget Trading Program

Section 1.0: Purpose (Effective 12/11/2000)

Section 2.0: Emission Limitation (Effective 12/11/2000)

Section 3.0: Applicability (Effective 12/11/2000)

Section 4.0: Definitions (Effective 12/11/2000)

Section 5.0: General Provisions (Effective 12/11/2000)

Section 6.0: NOX Authorized Account Representative for NOX Budget Sources (Effective 12/11/2000)

Section 7.0: Permits (Effective 12/11/2000)

Section 8.0: Monitoring and Reporting (Effective 12/11/2000)

Section 9.0: NATS (Effective 12/11/2000)

Section 10.0: NOX Allowance Transfers (Effective 12/11/2000)

Section 11.0: Compliance Certification (Effective 12/11/2000)

Section 12.0: End-of-Season Reconciliation (Effective 12/11/2000)

Section 13.0: Failure to Meet Compliance Requirements (Effective 12/11/2000)

Section 14.0: Individual Units Opt-Ins (Effective 12/11/2000)

Section 15.0: General Accounts (Effective 12/11/2000)

Appendix A: Allowance Allocations to NOX Budget Units under 3.1.1.1 and 3.1.1.2 of DE Admin. Code 1139 (Effective 02/11/2000)

Appendix B: 7 DE Admin. Code 1137—7 DE Admin. Code 1139 Program Transition (Effective 02/11/2000)

7 DE Admin. Code 1140: Delaware's National Low Emission Vehicle (NLEV) Regulation

Section 1.0: Applicability (Effective 09/11/1999)

Section 2.0: Definitions (Effective 09/11/1999)

Section 3.0: Program Participation (Effective 09/11/1999)

7 DE Admin. Code 1142: Specific Emission Control Requirements

Section 1.0: Control of NOX Emissions from Industrial Boilers (Effective 12/12/2001)

7 DE Admin. Code 1143: Heavy Duty Diesel Engine Standards

Section 1.0: On Road Heavy Duty Diesel Requirements for Model Years 2005 and 2006 (Effective 02/11/2005)

Section 2.0: On Road Heavy Duty Diesel Requirements for Model Year 2007 and Later (Effective 02/11/2005)

7 DE Admin. Code 1144: Control of Stationary Generator Emissions ¹

¹ All sections for 7 DE Admin. Code 1144: Control of Stationary Generator Emissions shall be incorporated by reference into 40 CFR part 55 except for all references to Carbon Dioxide (CO2).

Section 1.0: General (Effective 01/11/2006)

Section 2.0: Definitions (Effective 01/11/2006)

Section 3.0: Emissions (Effective 01/11/2006)

Section 4.0: Operating Requirements (Effective 01/11/2006)

Section 5.0: Fuel Requirements (Effective 01/11/2006)

Section 7.0: Emissions Certification, Compliance, and Enforcement (Effective 01/11/2006)

Section 8.0: Credit for Concurrent Emissions Reductions (Effective 01/11/2006)

Section 9.0: DVFA Member Companies (Effective 01/11/2006)

7 DE Admin. Code 1145: Excessive Idling of Heavy Duty Vehicles

Section 1.0: Applicability (Effective 04/11/2005)

Section 2.0: Definitions (Effective 04/11/2005)

Section 3.0: Severability (Effective 04/11/2005)

Section 4.0: Operational Requirements for Heavy Duty Motor Vehicles (Effective 04/11/2005)

Section 5.0: Exemptions (Effective 04/11/2005)

Section 6.0: Enforcement and Penalty (Effective 04/11/2005)

7 DE Admin. Code 1146: Electric Generating Unit (EGU) Multi-Pollutant Regulation

Section 1.0: Preamble (Effective 12/11/2006)

Section 2.0: Applicability (Effective 12/11/2006)

Section 3.0: Definitions (Effective 12/11/2006)

Section 4.0: NOX Emissions Limitations (Effective 12/11/2006)

Section 5.0: SO2 Emissions Limitations (Effective 12/11/2006)

Section 6.0: Mercury Emissions Limitations (Effective 12/11/2006)

Section 7.0: Recordkeeping and Reporting (Effective 12/11/2006)

Section 8.0: Compliance Plan (Effective 12/11/2006)

Section 9.0: Penalties (Effective 12/11/2006)

7 DE Admin. Code 1148: Control of Stationary Combustion Turbine Electric Generating Unit Emissions

Section 1.0: Purpose (Effective 07/11/2007)

Section 2.0: Applicability (Effective 07/11/2007)

Section 3.0: Definitions (Effective 07/11/2007)

Section 4.0: NOX Emissions Limitations (Effective 07/11/2007)

Section 5.0: Monitoring and Reporting (Effective 07/11/2007)

Section 6.0: Recordkeeping (Effective 07/11/2007)

Section 7.0: Penalties (Effective 07/11/2007)

(2) [Reserved]

* * * * *

[FR Doc. E9-19324 Filed 8-11-09; 8:45 am]

BILLING CODE 6560-50-P